ELECTION ASSISTANCE COMMISSION

Sunshine Act Notice

AGENCY: United States Election Assistance Commission.

ACTION: Notice of Public Meeting for EAC Standards Board.

Date And Time: Tuesday, February 20, 2007, 6:30 p.m.-9 p.m. Wednesday, 21, 2007, 8:30 a.m.-6 p.m. Thursday, 22, 2007, 9 a.m.-5 p.m. Friday, 23, 2007, 8:30 a.m.-11 a.m.

Place: Ritz-Carleton Atlanta, 191 Peachtree Street, NE., Atlanta, GA 30303, (404) 659-0400.

Purpose: The U.S. Election Assistance Commission (EAC) Standards Board, as required by the Help America Vote Act of 2002 (HAVA), will meet and receive updates on EAC projects and activities and discuss other relevant matters pertaining to the administration of federal elections. The Board will receive updates on the following subject: EAC's voting system certification and laboratory accreditation program and activities of the Technical Guidelines Development Committee (TGDC) regarding the voluntary voting system guidelines. The business portion of the meeting will include an election for three vacancies on the Executive Board and the presentation of redrafted bylaws.

This meeting will be open to the public.

Person to Contact for Information: Bryan Whitener, Telephone: (202) 566-3100.

Thomas R. Wilkey,
Executive Director, U.S. Election Assistance Commission.

[FR Doc. 07-547 Filed 2-2-07; 3:32 pm]

BILLING CODE 6820-KF-M